DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Codon-Optimization of the HIV-1 Vif Gene

Klaus Strebel, Stephan Bour, Kim-Lien Nguyen (NIAID); DHHS Reference No. E-041-2004/0—Research Tool/Biological Material; Licensing Contact: Michael Ambrose; 301/594-6565; ambrosem@mail.nih.gov.

Expression of the HIV-1 Vif protein in the absence of other viral factors such a Tat and Rev is extremely inefficient due to the presence of inhibitory sequences on its mRNA. This invention uses codon optimization to remove such inhibitory sequences without altering the amino acid sequence of the protein. The modified vif gene in the resulting pcDNA -hVIF vector is expressed under the control of the CMV promoter. In this, the protein functions as wild type and is more amendable to high-level expression in mammalian cells.

Currently this vector is used in on-going studies of HIV infection and its ability to overcome cellular restriction to replication. As such, the reagent will be valuable to other researchers in discovering mechanisms of replication, next generation therapeutics and potentially prevention of infection as well.

Streptococcus Lipoprotein Antigens

James M. Musser and Benfang Lei (NIAID); U.S. Provisional Application filed 10 Nov 2003 (DHHS Reference No. E-324-2003/0-US-01); Licensing Contact: Susan Ano; 301/435-5515; anos@mail.nih.gov.

The current technology describes sixteen isolated and purified Spy polypeptides that are conserved across many Group A Streptococcus serotypes and that are expressed during infection. The polypeptides are from the polypeptide portion of a lipoprotein of a Group A Streptococcus. Infection with Group A Streptococcus bacteria can result in mild illness such as strep throat, or more severe illnesses such as necrotizing faciitis and streptococcal toxic shock syndrome. Currently such infections are treated with antibiotics, but trends indicate an increasing resistance to e.g., erythromycin. There is currently no licensed vaccine for Group A Streptococcus. The M protein, a main focus of studies directed toward vaccine development, elicits antibodies that are either serospecific or may induce harmful cross-reacting antibodies. This technology identified individual polypeptides that were promising vaccine candidates and various combinations thereof. Additionally, antibodies to these polypeptides are discussed, which could be used therapeutically or in diagnostic assays.

A Simple Method and Apparatus To Produce a Closed, Transverse Bone Fracture in a Mouse or Other Skeletal Creature

Arabella Leet (NIDCR); DHHS Reference No. E-309-2003/0-US-01 filed 27 Oct 2003; Licensing Contact: Michael Shmilovich; 301/435-5019; shmilovm@mail.nih.gov.

A standard pair of pliers was modified to create a device that applies three-point bending forces across the leg of a mouse directly over the tibia bone. With this device, a reproducible transverse fracture can be fashioned quickly and easily, producing an animal model for fracture healing.

Although surgical fixation can be applied to the fracture, short-term splinting allows abundant bridging callus formation. This device does not require a platform for stabilizing the animals; instead the jaws are placed directly onto the limb, allowing production of many fractures within minutes. By using three-point fixation, there is no crush type injury, as when using a guillotine-type device to drop a weight onto a pre-rodded bone.

Scientists studying fracture healing will find this simple device useful because no special surgical skills are required to produce and stabilize a fracture in a mouse model of fracture healing.

Dated: January 14, 2004.
Steven M. Ferguson,
Director, Division of Technology Development and Transfer, Office of Technology Transfer, National Institutes of Health.

[FR Doc. 04-1259 Filed 1-21-04; 8:45 am]

BILLING CODE 4140-01-P